ENVIRONMENTAL PROTECTION AGENCY

40 CFR Part 52

[EPA-R04-OAR-2018-0064; FRL-9993-89-Region 4]

Air Plan Approval; Georgia: Permit Exemption for Fire Fighting Equipment

AGENCY: Environmental Protection Agency (EPA).

ACTION: Final rule.

SUMMARY: The Environmental Protection Agency (EPA) is taking final action to approve two revisions to the Georgia State Implementation Plan (SIP), submitted by the State of Georgia, through the Georgia Environmental Protection Division (Georgia EPD), with two letters dated November 13, 2017, and July 31, 2018. Specifically, EPA is approving changes that revise existing exemptions for firefighting equipment. EPA is approving these SIP revisions because the Agency believes that they are consistent with the Clean Air Act (CAA or Act).

DATES: This rule will be effective June 20, 2019.

ADDRESSES: EPA has established a docket for this action under Docket ID No. EPA-R04-OAR-2018-0064. All documents in the docket are listed on the www.regulations.gov website. Although listed in the index, some information is not publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division (formerly the Air, Pesticides and Toxics Management Division), U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Andres Febres, Air Regulatory Management Section, Air Planning and Implementation Branch, Air and Radiation Division, Region 4, U.S. Environmental Protection Agency, 61 Forsyth Street SW, Atlanta, Georgia 30303-8960. The telephone number is (404) 562-8966. Mr. Febres can also be reached via electronic mail at febres-martinez.andres@epa.gov.

SUPPLEMENTARY INFORMATION:

I. Background

Through a letter dated November 13, 2017, Georgia EPD submitted a SIP revision for EPA's approval that included several miscellaneous rule amendments.¹ Specifically, the November 13, 2017, SIP revision included changes to Georgia's Air Quality Control Rule 391-3-1-.01—“Definitions,” Rule 391-3-1-.02(4)—“Ambient Air Standards,” Rule 391-3-1-.02(7)—“Prevention of Significant Deterioration of Air Quality,” Rule 391-3-1-.03(6)—“Exemptions,” Rule 391-3-1-.03(8)—“Permit Requirements,” and Rule 391-3-1-.03(10)—“Title V Operating Permits.”

¹ EPA notes that the Agency received this submittal on November 29, 2017.

Through an additional letter dated July 31, 2018, Georgia EPD submitted several SIP revisions that included some miscellaneous rule amendments.² Specifically, the July 31, 2018, SIP revisions included changes to Georgia's Air Quality Control Rule 391-3-1-.01—“Definitions,” Rule 391-3-1-.02(2)(c)—“Incinerators,” Rule 391-3-1-.02(4)—“Ambient Air Standards,” Rule 391-3-1-.02(12)—“Cross State Air Pollution Rule NOX Annual Trading Program,” Rule 391-3-1-.02(13)—“Cross State Air Pollution Rule SO2 Annual Trading Program,” Rule 391-3-1-.02(14)—“Cross State Air Pollution Rule NOX Ozone Season Trading Program,” Rule 391-3-1-.03(6)—“Exemptions,” Rule 391-3-1-.03(11)—“Permit by Rule,” Rule 391-3-1-.03(10)—“Title V Operating Permits,” Rule 391-3-1-.11—“Small Business Assistance Administration,” and Rule 391-3-1-.12—“Duties of the Small Business Ombudsman Office.”

² EPA notes that the Agency received this submittal on August 2, 2018.

In a notice of proposed rulemaking (NPRM) published on February 1, 2019, (84 FR 1037), EPA proposed to approve revisions to the Georgia's Rule 391-3-1-.03(6), which addresses exemptions for firefighting equipment from minor new source review (NSR) requirements. EPA provided further analysis of these revisions, as well as the Agency's rationale for approving the changes, in its NPRM. Comments on the NPRM were due on or before March 4, 2019. EPA received no adverse comments on the proposed action. EPA is now taking final action to approve the above-referenced revision.

II. Incorporation by Reference

In this document, EPA is finalizing regulatory text that includes incorporation by reference. In accordance with requirements of 1 CFR 51.5, EPA is finalizing the incorporation by reference of Georgia EPD's Rule 391-3-1-.03(6)—“Exemptions,” which became state effective July 23, 2018. EPA has made, and will continue to make, these materials generally available through www.regulations.gov and at the EPA Region 4 Office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.³

³ See 62 FR 27968 (May 22, 1997).

III. Final Action

EPA is approving Georgia EPD's November 13, 2017, and July 31, 2018, SIP revisions. Specifically, EPA is approving these SIP revisions that modify Georgia's Rule 391-3-1-.03(6). The changes at Georgia Rule 391-3-1-.03(6)(b)(13) exempt fire pumps and other equipment used by firefighters and other emergency personnel to fight fires from the Act's preconstruction review requirement. As discussed in further detail in EPA's February 1, 2019, (84 FR 1037) NPRM, the Agency believes that any air quality impacts from these activities are de minimis and will often lead to net emissions reductions by mitigating or eliminating the air quality impacts of uncontrolled fires. EPA is approving these SIP revisions because the Agency has determined that they are consistent with the CAA and will not interfere with attainment or maintenance of any NAAQS, reasonable further progress, or any other applicable requirement.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 22, 2019. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 6, 2019.
Mary S. Walker,
Acting Regional Administrator, Region 4.

40 CFR part 52 is amended as follows:

PART 52—APPROVAL AND PROMULGATION OF IMPLEMENTATION PLANS

1. The authority citation for part 52 continues to read as follows:

Authority: 42.U.S.C. 7401 et seq.

Subpart L—Georgia

2. In § 52.570, the table in paragraph (c) is amended by revising the entry “391-3-1-.03(6)” to read as follows:

§ 52.570 Identification of plan.

* * * * *

(c) * * *

EPA-Approved Georgia Regulations
State citation | Title/subject | State effective date | EPA approval date | Explanation
* * * * * * *
Permits
* * * * * * *
391-3-1-.03(6) | Exemptions | 7/23/2018 | 5/21/2019, [insert Federal Register citation]
* * * * * * *

* * * * *

[FR Doc. 2019-10563 Filed 5-20-19; 8:45 am]

BILLING CODE 6560-50-P